DEPARTMENT OF ENERGY

Federal Energy Regulatory Commission

Combined Notice of Filings #1

Take notice that the Commission received the following electric corporate filings:

Docket Numbers: EC25-13-000.

Applicants: Horseshoe Bend Wind, LLC, North Hurlburt Wind, LLC, South Hurlburt Wind, LLC, SF Aggregator, LLC, Brookfield Infrastructure Income Fund FCP-RAIF, LIF Adonis Holdings, LLC, GCM IAF II Adonis Holdings, LLC, EWIF Adonis Holdings, LLC, GCM Adonis Holdings, L.P.

Description: Joint Application for Authorization Under Section 203 of the Federal Power Act of Horseshoe Bend Wind, LLC, et a.

Filed Date: 10/23/24.

Accession Number: 20241023-5203.

Comment Date: 5 p.m. ET 11/13/24.

Docket Numbers: EC25-14-000.

Applicants: Shell Energy North America (US), L.P., Rhode Island State Energy Center, LP.

Description: Joint Application for Authorization Under Section 203 of the Federal Power Act of Rhode Island State Energy Center, LP et al.

Filed Date: 10/24/24.

Accession Number: 20241024-5045.

Comment Date: 5 p.m. ET 11/14/24.

Take notice that the Commission received the following exempt wholesale generator filings:

Docket Numbers: EG25-19-000.

Applicants: Kuna BESS LLC.

Description: Kuna BESS LLC submits Notice of Self-Certification of Exempt Wholesale Generator Status.

Filed Date: 10/24/24.

Accession Number: 20241024-5036.

Comment Date: 5 p.m. ET 11/14/24.

Take notice that the Commission received the following electric rate filings:

Docket Numbers: ER10-2854-004.

Applicants: ConocoPhillips Company.

Description: Notice of Change in Status of ConocoPhillips Company.

Filed Date: 10/22/24.

Accession Number: 20241022-5194.

Comment Date: 5 p.m. ET 11/12/24.

Docket Numbers: ER15-1905-018.

Applicants: AZ721 LLC.

Description: Notice of Change in Status of Amazon Energy LLC.

Filed Date: 10/24/24.

Accession Number: 20241024-5047.

Comment Date: 5 p.m. ET 11/14/24.

Docket Numbers: ER23-2759-001.

Applicants: Mammoth North LLC.

Description: Notice of Non-Material Change in Status of Mammoth North LLC.

Filed Date: 10/22/24.

Accession Number: 20241022-5193.

Comment Date: 5 p.m. ET 11/12/24.

Docket Numbers: ER24-2826-001.

Applicants: American Transmission Systems, Incorporated, PJM Interconnection, L.L.C.

Description: Tariff Amendment: American Transmission Systems, Incorporated submits tariff filing per 35.17(b): ATSI submits Amendment to Pending Filing of Service Agreement No. 2853 to be effective 10/31/2024.

Filed Date: 10/24/24.

Accession Number: 20241024-5103.

Comment Date: 5 p.m. ET 10/31/24.

Docket Numbers: ER24-2920-000.

Applicants: Clearview Solar I, LLC.

Description: Supplement to 08/29/2024, Clearview Solar I, LLC tariff filing.

Filed Date: 10/24/24.

Accession Number: 20241024-5048.

Comment Date: 5 p.m. ET 11/4/24.

Docket Numbers: ER24-2937-000; ER24-2938-000; ER24-2984-000; ER24-3146-000; ER24-3148-000; ER24-3149-000.

Applicants: Hoosier Line Energy, LLC, Blackford Wind Energy, LLC, Blackford Solar Energy, LLC, Ridgely Energy Farm, LLC, Sierra Pinta Energy Storage, LLC, Elisabeth Solar, LLC.

Description: Supplement to 08/30/2024, Elisabeth Solar, LLC tariff filing Market-Based Rate Application.

Filed Date: 10/18/24.

Accession Number: 20241018-5231.

Comment Date: 5 p.m. ET 10/28/24.

Docket Numbers: ER25-193-000.

Applicants: Blackout Power Trading Inc.

Description: Baseline eTariff Filing: Blackout Power Trading, LLC MBR Application Filing to be effective 12/7/2024.

Filed Date: 10/24/24.

Accession Number: 20241024-5001.

Comment Date: 5 p.m. ET 11/14/24.

Docket Numbers: ER25-194-000.

Applicants: Firefly Solar PA LLC.

Description: Petition for Limited Waiver, Prospective Waiver of Firefly Solar PA LLC and Vesper Energy Development LLC.

Filed Date: 10/23/24.

Accession Number: 20241023-5199.

Comment Date: 5 p.m. ET 11/13/24.

Docket Numbers: ER25-195-000.

Applicants: Southwest Power Pool, Inc.

Description: 205(d) Rate Filing: 4022R2 Cheyenne Light, Fuel and Power Co WEIS Market Part. Agr to be effective 10/1/2024.

Filed Date: 10/24/24.

Accession Number: 20241024-5024.

Comment Date: 5 p.m. ET 11/14/24.

Docket Numbers: ER25-196-000.

Applicants: Midcontinent Independent System Operator, Inc., International Transmission Company.

Description: 205(d) Rate Filing: Midcontinent Independent System Operator, Inc. submits tariff filing per 35.13(a)(2)(iii: 2024-10-24_SA 4373 ITCTransmission-DTE Electric Company E&P (J2878) to be effective 10/4/2024.

Filed Date: 10/24/24.

Accession Number: 20241024-5040.

Comment Date: 5 p.m. ET 11/14/24.

Docket Numbers: ER25-197-000.

Applicants: Midcontinent Independent System Operator, Inc.

Description: 205(d) Rate Filing: 2024-10-24_MISO-TVA Emergency Energy Agreement to be effective 12/24/2024.

Filed Date: 10/24/24.

Accession Number: 20241024-5041.

Comment Date: 5 p.m. ET 11/14/24.

Docket Numbers: ER25-198-000.

Applicants: Power Authority of the State of New York New York Independent System Operator, Inc.

Description: 205(d) Rate Filing: Power Authority of the State of New York submits tariff filing per 35.13(a)(2)(iii: NYPA 205: base rate of ROE modifications to be effective 11/1/2024.

Filed Date: 10/24/24.

Accession Number: 20241024-5052.

Comment Date: 5 p.m. ET 11/14/24.

Docket Numbers: ER25-199-000.

Applicants: Citizens Sycamore-Penasquitos Transmission LLC.

Description: 205(d) Rate Filing: Annual TRBAA 2024 to be effective 1/1/2025.

Filed Date: 10/24/24.

Accession Number: 20241024-5056.

Comment Date: 5 p.m. ET 11/14/24.

Docket Numbers: ER25-200-000.

Applicants: Niagara Mohawk Power Corporation, New York Independent System Operator, Inc.

Description: 205(d) Rate Filing: Niagara Mohawk Power Corporation submits tariff filing per 35.13(a)(2)(iii: NYISO-National Grid Joint 205: SGIA Somers Solar SA2857 to be effective 10/10/2024.

Filed Date: 10/24/24.

Accession Number: 20241024-5057.

Comment Date: 5 p.m. ET 11/14/24.

Docket Numbers: ER25-201-000.

Applicants: Citizens Sunrise Transmission LLC.

Description: 205(d) Rate Filing: Annual TRBAA 2024 to be effective 1/1/2025.

Filed Date: 10/24/24.

Accession Number: 20241024-5058.

Comment Date: 5 p.m. ET 11/14/24.

Docket Numbers: ER25-202-000.

Applicants: Vision Trading Company LLC.

Description: Baseline eTariff Filing: Baseline new to be effective 12/24/2024.

Filed Date: 10/24/24.

Accession Number: 20241024-5077.

Comment Date: 5 p.m. ET 11/14/24.

Docket Numbers: ER25-203-000.

Applicants: Alabama Power Company, Georgia Power Company, Mississippi Power Company.

Description: 205(d) Rate Filing: Alabama Power Company submits tariff filing per 35.13(a)(2)(iii: Sable Solar LGIA Filing to be effective 10/16/2024.

Filed Date: 10/24/24.

Accession Number: 20241024-5078.

Comment Date: 5 p.m. ET 11/14/24.

Docket Numbers: ER25-204-000.

Applicants: Alabama Power Company, Georgia Power Company, Mississippi Power Company.

Description: 205(d) Rate Filing: Alabama Power Company submits tariff filing per 35.13(a)(2)(iii: Hall Creek Solar LGIA Amendment Filing to be effective 10/14/2024.

Filed Date: 10/24/24.

Accession Number: 20241024-5080.

Comment Date: 5 p.m. ET 11/14/24.

Docket Numbers: ER25-205-000.

Applicants: Swiftwater Solar, LLC.

Description: Baseline eTariff Filing: Baseline new to be effective 10/25/2024.

Filed Date: 10/24/24.

Accession Number: 20241024-5109.

Comment Date: 5 p.m. ET 11/14/24.

Docket Numbers: ER25-206-000.

Applicants: Evergy Metro, Inc.

Description: Baseline eTariff Filing: Wholesale Distribution Access Tariff to be effective 1/1/2025.

Filed Date: 10/24/24.

Accession Number: 20241024-5176.

Comment Date: 5 p.m. ET 11/14/24.

Docket Numbers: ER25-207-000.

Applicants: Evergy Missouri West, Inc.

Description: Baseline eTariff Filing: Wholesale Distribution Access Tariff to be effective 1/1/2025.

Filed Date: 10/24/24.

Accession Number: 20241024-5179.

Comment Date: 5 p.m. ET 11/14/24.

Docket Numbers: ER25-208-000.

Applicants: Evergy Kansas Central, Inc.

Description: Baseline eTariff Filing: Wholesale Distribution Access Tariff to be effective 1/1/2025.

Filed Date: 10/24/24.

Accession Number: 20241024-5187.

Comment Date: 5 p.m. ET 11/14/24.

Take notice that the Commission received the following electric securities filings:

Docket Numbers: ES25-9-000.

Applicants: Mississippi Power Company.

Description: Application Under Section 204 of the Federal Power Act for Authorization to Issue Securities of Mississippi Power Company.

Filed Date: 10/24/24.

Accession Number: 20241024-5093.

Comment Date: 5 p.m. ET 11/14/24.

Docket Numbers: TX25-1-000.

Applicants: CalPeak Power—Border LLC, Hermes BESS LLC.

Description: Application for Order Directing Transmission Service and Interconnection of Facilities of CalPeak Power-Border LLC.

Filed Date: 10/23/24.

Accession Number: 20241023-5205.

Comment Date: 5 p.m. ET 11/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 24, 2024.
Debbie-Anne A. Reese,
Secretary.

[FR Doc. 2024-25275 Filed 10-30-24; 8:45 am]

BILLING CODE 6717-01-P